DEPARTMENT OF DEFENSE

Department of the Navy

Notice of Extension of Public Comment Period for the Draft Environmental Impact Statement for the Laurelwood Housing Area Access, Naval Weapons Station Earle, Colts Neck, NJ

AGENCY: Department of the Navy, DoD.

ACTION: Notice.

SUMMARY: Under the National Environmental Policy Act, the U.S. Environmental Protection Agency published a notice of availability on November 28, 2008 in the Federal Register (73 FR 72477) for the Department of the Navy's Draft Environmental Impact Statement (Draft EIS) for the Laurelwood Housing Area Access, Naval Weapons Station Earle, Colts Neck, New Jersey (EIS No. 20080480). This notice announces the extension of the public comment period from January 12, 2009 to January 23, 2009.

FOR FURTHER INFORMATION CONTACT: Naval Facilities Engineering Command (NAVFAC) Atlantic, Attn: Laurelwood Housing Area EIS Project Manager, Code EV21 Laurelwood PM, 6506 Hampton Boulevard, LRA Building A, Norfolk, VA 23508; http://www.laurelwoodeis.com.

SUPPLEMENTARY INFORMATION: Comments on the Draft EIS should be mailed to Naval Facilities Engineering Command (NAVFAC) Atlantic, Attn: Laurelwood Housing Area EIS Project Manager, Code EV21 Laurelwood PM, 6506 Hampton Boulevard, LRA Building A, Norfolk, VA 23508. Comments can also be submitted via the project Web site: http://www.laurelwoodeis.com. All written comments postmarked or submitted to the project Web site by January 23, 2009, will become a part of the official public record and will be responded to in the Final EIS. An electronic copy of the Draft EIS, as well as further information on the proposed action, is available on the project Web site: http://www.laurelwoodeis.com.

Dated: December 19, 2008.
T.M. Cruz,
Lieutenant Commander, Judge Advocate General's Corps, U.S. Navy, Federal Register Liaison Officer.

[FR Doc. E8-30937 Filed 12-29-08; 8:45 am]

BILLING CODE 3810-FF-P